DEPARTMENT OF THE INTERIOR

Office of the Assistant Secretary—Indian Affairs; Gaming on Trust Lands Acquired After October 17, 1988

AGENCY: Office of Indian Gaming Management, Interior.

ACTION: Notice of submission of information collection to the Office of Management and Budget.

SUMMARY: As required by the Paperwork Reduction Act of 1995, the Assistant Secretary—Indian Affair (AS-IA) is submitting the information collection titled Gaming on Trust Lands Acquired After October 17, 1988, OMB Control Number 1076-0158, for review and renewal by the Desk Officer for the Department of the Interior, Office of Management and Budget.

DATES: Submit comments or suggestions on or before December 29, 2003, to be assured of consideration.

ADDRESSES: Comments should be sent to the Attention: Desk Officer for the Department of the Interior. You may submit comments on the information by facsimile at (202) 395-6566 or you may send an e-mail to: OIRA_DOCKET@ omb.eop.gov.

Please send copy of comments to: George Skibine, Office of Indian Gaming Management, Mail Stop 4543-MIB, 1849 C Street NW., Washington, DC 20240, facsimile at (202) 273-3153.

FOR FURTHER INFORMATION CONTACT: You may request further information or obtain copies of the information collection request submission from George Skibine at 202-219-4066.

SUPPLEMENTARY INFORMATION: The collection of information will ensure that the provisions of IGRA, the relevant provisions of Federal law and the trust obligations of the United States are met when federally recognized tribes seek a Secretarial determination that a gaming establishment would be in the best interest of the tribe and would not be detrimental to the surrounding community. Section 292.8 specifies the information collection requirement. An Indian tribe must ask the Secretary to make a determination that a gaming establishment would be in the best interest of the tribe and would not be detrimental to the surrounding community. The information to be collected includes: name of the tribe, tribal documents, description of the land to be acquired, proof of ownership, distance of land from the Indian tribe's reservation or trust lands and other documents deemed necessary. Collection of this information is currently authorized under an approval by OMB (OMB Control Number 1076-0158). All information is collected when the tribe submits a request for a secretarial determination that a gaming establishment would be in the best interest of the tribe and would not be detrimental to the surrounding community. Annual reporting and record keeping burden for this collection of information is estimated to average 1000 hours each for approximately 2 respondents, including the time for reviewing instructions, researching existing data sources, gathering and maintaining the data needed, and completing and reviewing the collection of information. Thus, the total annual reporting and record keeping burden for this collection is estimated to be 2,000 hours. A request for comments on this information collection request appeared in the Federal Register on August 25, 2003 (68 FR 51030). No comments have been received.

Request for Comments: The Bureau of Indian Affairs requests you to send your comments on this collection to the two locations listed in the ADDRESSES section. Your comments should address: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 4543, during the hours of 9 a.m. to 4 p.m., EST Monday through Friday except for legal holidays. If you wish to have your name and/or address withheld, you must state this prominently at the beginning of your comments. We will honor your request according to the requirements of the law. All comments from organizations or representatives will be available for review. We may withhold comments from review for other reasons.

OMB has up to 60 days to make a decision on the submission for renewal, but may make the decision after 30 days. Therefore, to receive the best consideration of your comments, you should submit them closer to 30 days than 60 days.

OMB Approval Number: 1076-0158.

Title: Gaming on Trust Lands Acquired After October 17, 1988, 25 CFR 292.

Brief Description of collection: This is a voluntary submission by respondents.

Type of review: Renewal.

Respondents: Federally recognized Indian tribes.

Number of Respondents: 2.

Estimated Time per Response: 1000 hours.

Frequency of Response: One time only.

Total Annual Burden to Respondents: 2000 hours.

Dated: November 6, 2003.
Aurene M. Martin,
Principal Deputy Assistant Secretary—Indian Affairs.

[FR Doc. 03-29715 Filed 11-26-03; 8:45 am]

BILLING CODE 4310-4N-P